DEPARTMENT OF COMMERCE

Foreign-Trade Zones Board

(Docket 36-2008)

Foreign-Trade Zone 106 -- Oklahoma City, Oklahoma, Application for Expansion

An application has been submitted to the Foreign-Trade Zones Board (the Board) by the Port Authority of the Greater Oklahoma City Area, grantee of Foreign-Trade Zone (FTZ) 106, requesting authority to expand its zone to include an additional site in Mustang, Oklahoma. The application was submitted pursuant to the provisions of the Foreign-Trade Zones Act, as amended (19 U.S.C. 81a-81u), and the regulations of the Board (15 CFR Part 400). It was formally filed on May 28, 2008.

FTZ 106 was approved by the Board on September 14, 1984 (Board Order 271, 49 FR 37133, 9/21/84) and expanded on December 7, 1989 (Board Order 455, 54 FR 51441, 12/15/89), on February 10, 2000 (Board Order 1078, 65 FR 8337, 2/18/00), and on September 28, 2007 (Board Order 1529, 72 FR 56722, 10/04/07). The general-purpose zone currently consists of the following sites: Site 1 (876 acres) -- within the 6,700-acre Will Rogers World Airport Complex; Site 2 (6 acres) -- 106,000 square foot distribution and storage warehouse located at 5001 S.W. 36th Street, Oklahoma City, adjacent to the Will Rogers World Airport; Site 3 (5 acres) -- Mid America Business Park I, 6205 South Sooner, Oklahoma City; Site 4 (50 acres) -- Mid America Business Park II, Mid America Boulevard, Oklahoma City; Site 7 (110 acres) -- Western Heights Properties industrial park located south of SW 29 between South Rockwell and Council, Oklahoma City; Site 8 (30 acres) -- Will Rogers Airport NE, Oklahoma City; Site 10 (43 acres) -- Kelley Avenue International Trade Center, south of 15th between Kelley Avenue and AT&SF Railroad, Edmond; Site 12 (26 acres) -- ICON Center Industrial Park, 300 East Arlington, Ada; and, Site 13 (308 acres) -- within the 401 acre Guthrie Edmond Regional Airport, 520 Airport Road, Guthrie.

The applicant is now requesting to expand the zone to include an additional site in Mustang: Proposed Site 14 (19 acres) at the multi-tenant facility of Industrial Gasket, Inc. dba International Group (IG), located at 720 South Sara Road in Mustang. The site is owned by IG.

In accordance with the Board's regulations, Christopher Kemp of the FTZ staff is designated examiner to investigate the application and report to the Board.

Public comment is invited from interested parties. Submissions (original and 3 copies) shall be addressed to the Board's Executive Secretary at the address listed below. The closing period for their receipt is August 4, 2008. Rebuttal comments in response to material submitted during the foregoing period may be submitted during the subsequent 15-day period (to August 18, 2008).

A copy of the application and accompanying exhibits will be available at each of the following addresses: U. S. Department of Commerce Export Assistance Center, 301 N.W. 63rd Street, Suite 330, Oklahoma City, Oklahoma 73116; and, Office of the Executive Secretary, Foreign-Trade Zones Board, Room 2111, U.S. Department of Commerce, 1401 Constitution Avenue, NW, Washington, D.C., 20230. For further information contact Christopher Kemp at christopher_kemp@ita.doc.gov or (202) 482-0862.

Dated: May 28, 2008.
Pierre V. Duy,
Acting Executive Secretary.

[FR Doc. E8-12462 Filed 6-3-08; 8:45 am]

BILLING CODE 3510-DS-S